DEPARTMENT OF HOMELAND SECURITY

Coast Guard

[USCG-2004-17238]

Small Business Non-Retaliation Policy

AGENCY: Coast Guard, DHS.

ACTION: Notice.

SUMMARY: The Coast Guard announces adoption of a small business non-retaliation policy. If a small business questions or lodges a complaint regarding a Coast Guard policy or action, or seeks outside help in dealing with a Coast Guard policy or action, the Coast Guard will not retaliate in any fashion. The full policy is set out in the body of this notice.

DATES: The Commandant of the Coast Guard approved the small business non-retaliation policy on February 11, 2004. The policy remains in effect until modified or rescinded by the Commandant.

ADDRESSES: Although we are not requesting them, you may make comments on this notice. To make sure that your comments and related material are not entered more than once in the docket, please submit them by only one of the following means:

(1) Electronically through the Web site for the Docket Management System at http://dms.dot.gov.

(2) By mail to the Docket Management Facility, (USCG-2004-17238), U.S. Department of Transportation, room PL-401, 400 Seventh Street, SW., Washington, DC 20590-0001.

(3) By fax to the Docket Management Facility at 202-493-2251.

(4) By delivery to room PL-401 on the Plaza level of the Nassif Building, 400 Seventh Street, SW., Washington, DC, between 9 a.m. and 5 p.m., Monday through Friday, except Federal holidays. The telephone number is 202-366-9329.

The Docket Management Facility maintains the public docket for this notice. Comments and material received from the public will become part of this docket and will be available for inspection or copying at room PL-401 on the Plaza level of the Nassif Building, 400 Seventh Street, SW., Washington, DC, between 9 a.m. and 5 p.m., Monday through Friday, except Federal holidays. You may also find this docket on the Internet at http://dms.dot.gov.

FOR FURTHER INFORMATION CONTACT: If you have questions on this notice, call Rich Walter, Office of Regulations and Administrative Law (G-LRA), U.S. Coast Guard, telephone 202-267-1534. If you have questions on viewing or submitting material to the docket, call Andrea M. Jenkins, Program Manager, Docket Operations, telephone 202-366-0271.

SUPPLEMENTARY INFORMATION: The Office of the National Ombudsman of the U.S. Small Business Administration (SBA) has asked each Federal agency to adopt a policy that the agency will not retaliate against small businesses that question or complain about the way the agency does business. On February 11, 2004, the head of our agency, the Commandant of the Coast Guard, approved the following statement of Coast Guard policy:

If you question or lodge a complaint regarding a Coast Guard policy or action, to us or to anyone else, or if you seek outside help in dealing with a Coast Guard policy or action, the Coast Guard will not retaliate against you in any fashion. The Coast Guard wants you to be able to comment, question, or lodge a complaint about our policies or actions without fear that we will retaliate or try to discourage future questions or complaints. If you think the Coast Guard has broken this promise, we will investigate, take appropriate action, and make sure that mistakes are not repeated. You may comment, ask questions, or file a complaint about Coast Guard policies or actions by contacting your local Coast Guard office, or you can also contact the Small Business Administration Office of the National Ombudsman at 888-REG-FAIR (734-3247), fax: 202-481-5719, email: ombudsman@sba.gov.

Small businesses generally are independently owned and operated and are not dominant in their field. If you need help determining whether or not your business qualifies as a “small business”, contact the SBA's Office of the National Ombudsman using the information given in the preceding paragraph.

Dated: March 11, 2004.
John E. Crowley, Jr.,
Rear Admiral, U.S. Coast Guard, Judge Advocate General.

[FR Doc. 04-6037 Filed 3-17-04; 8:45 am]

BILLING CODE 4910-15-P